DEPARTMENT OF TRANSPORTATION

Federal Aviation Administration

14 CFR Part 39

[Docket No. FAA-2004-19565; Directorate Identifier 2004-NM-104-AD]

RIN 2120-AA64

Airworthiness Directives; Gulfstream Aerospace LP Model Galaxy and Gulfstream 200 Airplanes

AGENCY: Federal Aviation Administration (FAA), DOT.

ACTION: Notice of proposed rulemaking (NPRM).

SUMMARY: The FAA proposes to adopt a new airworthiness directive (AD) for certain Gulfstream Aerospace LP Model Galaxy and Gulfstream 200 airplanes. This proposed AD would require inspecting for incorrect torque of the retaining bolt of the aft trunnion of the main landing gear (MLG), and for associated damage to certain components, and adjustments or repairs if necessary. This proposed AD is prompted by a report of a rumbling sound heard by the flightcrew during takeoff, and the rumbling stopped after the MLG was retracted. We are proposing this AD to prevent damage to the retaining bolt and bearing of the aft trunnion of the MLG, which could result in reduced structural integrity of the MLG and consequent reduced controllability of the airplane on the ground.

DATES: We must receive comments on this proposed AD by December 10, 2004.

ADDRESSES: Use one of the following addresses to submit comments on this proposed AD.

• DOT Docket Web site: Go to http://dms.dot.gov and follow the instructions for sending your comments electronically.

• Government-wide rulemaking web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Gulfstream Aerospace Corporation, P.O. Box 2206, Mail Station D-25, Savannah, Georgia 31402.

You can examine the contents of this AD docket on the Internet at http://dms.dot.gov, or in person at the Docket Management Facility, U.S. Department of Transportation, 400 Seventh Street SW., room PL-401, on the plaza level of the Nassif Building, Washington, DC. This docket number is FAA-2004-19565; the directorate identifier for this docket is 2004-NM-104-AD.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19565; Directorate Identifier 2004-NM-104-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Civil Aviation Administration of Israel (CAAI), which is the airworthiness authority for Israel, notified us that an unsafe condition may exist on certain Gulfstream Model Galaxy and Gulfstream 200 airplanes. The CAAI advises that a rumbling sound was heard by the flightcrew of a Model Galaxy airplane during takeoff, and the rumbling stopped after the main landing gear (MLG) was retracted. Investigation revealed excessive play had occurred in the trunnion bearing of the left-hand MLG due to inadequate torque to retain the bearing. Inadequate torque would allow the bearing to migrate inside the bearing housing, causing damage to the retaining bolt and bearing, which could result in reduced structural integrity of the MLG and consequent reduced controllability of the airplane on the ground.

The trunnion of the MLG on Model Galaxy airplanes is the same on Model Gulfstream 200 airplanes; therefore, the unsafe condition could exist on all of these airplanes.

Relevant Service Information

Gulfstream has issued Alert Service Bulletin 200-32A-213, dated August 19, 2003. The service bulletin applies to airplanes on which the existing aft MLG washers have been replaced with improved chamfered washers, as specified in Gulfstream Service Bulletin 200-32-076, dated October 4, 2002. Service Bulletin 200-32-076 specified incorrect torque values and has been replaced with Service Bulletin 200-32A-213. Service Bulletin 200-32A-213 describes procedures for a one-time visual inspection of the retaining bolt of the aft trunnion of the MLG to ensure that it is torqued correctly; inspecting for associated damage to the bearing, washer, or bolt, and adjustments or repairs if necessary. The adjustments and repairs include re-torqueing the retaining bolt to the correct value, and replacing any damaged components.

Accomplishing the actions specified in Service Bulletin 200-32A-213 is intended to adequately address the unsafe condition. The CAAI mandated the service information and issued Israeli airworthiness directive 32-03-08-07, dated August 20, 2003, to ensure the continued airworthiness of these airplanes in Israel.

FAA's Determination and Requirements of the Proposed AD

These airplane models are manufactured in Israel and are type certificated for operation in the United States under the provisions of section 21.29 of the Federal Aviation Regulations (14 CFR 21.29) and the applicable bilateral airworthiness agreement. Pursuant to this bilateral airworthiness agreement, the CAAI has kept the FAA informed of the situation described above. We have examined the CAAI's findings, evaluated all pertinent information, and determined that we need to issue an AD for products of this type design that are certificated for operation in the United States.

Therefore, we are proposing this AD, which would require accomplishing the actions specified in Service Bulletin 200-32A-213, except as discussed under “Difference Between the Proposed AD and Service Information.”

Difference Between the Proposed AD and Service Information

Although Service Bulletin 200-32A-213 specifies to submit a service reply card to the manufacturer, this proposed AD does not include such a requirement.

Clarification of Inspection Type

Service Bulletin 200-32A-213 specifies accomplishing a visual inspection, but this proposed AD would require a general visual inspection. A note has been added to define that inspection.

Costs of Compliance

This proposed AD would affect about 63 airplanes of U.S. registry. The proposed inspection would take about 1 work hour per airplane, at an average labor rate of $65 per work hour. Based on these figures, the estimated cost of the proposed inspection for U.S. operators is $4,095, or $65 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Gulfstream Aerospace LP (Formerly Israel Aircraft Industries, Ltd.): Docket No. FAA-2004-19565; Directorate Identifier 2004-NM-104-AD.

Comments Due Date

(a) The Federal Aviation Administration must receive comments on this AD action by December 10, 2004.

Affected ADs

(b) None.

Applicability

(c) This AD applies to Gulfstream Aerospace LP Model Galaxy and Gulfstream 200 Airplanes, serial numbers 004 through 042 inclusive, on which Gulfstream Service Bulletin 200-32-076, dated October 4, 2002, has been incorporated; certificated in any category.

Unsafe Condition

(d) This AD was prompted by a report of a rumbling sound heard by the flightcrew during takeoff, and the rumbling stopped after the main landing gear (MLG) was retracted. We are issuing this AD to prevent damage to the retaining bolt and bearing of the aft trunnion of the MLG, which could result in reduced structural integrity of the MLG and consequent reduced controllability of the airplane on the ground.

Compliance

(e) You are responsible for having the actions required by this AD performed within the compliance times specified, unless the actions have already been done.

Replacement/Inspection/Adjustments or Repairs

(f) Within 50 flight hours after the effective date of this AD: Accomplish a general visual inspection, as required by paragraphs (f)(1) and (f)(2) of this AD, by doing all the actions specified in Gulfstream Alert Service Bulletin 200-32A-213, dated August 19, 2003. Any adjustments or repairs must be accomplished before further flight in accordance with the service bulletin.

(1) Inspect the retaining bolt of the aft trunnion of the MLG to ensure that it is correctly torqued.

(2) Inspect for associated damage to the bearing, washer, or bolt of the MLG.

Note 1: For the purposes of this AD, a general visual inspection is: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

No Reporting Requirement

(g) Gulfstream Alert Service Bulletin 200-32A-213, dated August 19, 2003, specifies to submit a service reply card to the manufacturer, but this AD does not include that requirement.

Alternative Methods of Compliance (AMOCs)

(h) The Manager, International Branch, ANM-116, Transport Airplane Directorate, FAA, has the authority to approve AMOCs for this AD, if requested in accordance with the procedures found in 14 CFR 39.19.

Related Information

(i) Israeli airworthiness directive 32-03-08-07, dated August 20, 2003, also addresses the subject of this AD.

Issued in Renton, Washington, on November 1, 2004.
Kalene C. Yanamura,
Acting Manager, Transport Airplane Directorate, Aircraft Certification Service.

[FR Doc. 04-25029 Filed 11-9-04; 8:45 am]

BILLING CODE 4910-13-P